DEPARTMENT OF ENERGY

[OE Docket No. EA-281-A]

Application To Export Electric Energy; Manitoba Hydro

AGENCY: Office of Electricity Delivery and Energy Reliability, DOE.

ACTION: Notice of application.

SUMMARY: Manitoba Hydro, a Canadian Crown Corporation, has applied to renew its authority to transmit electric energy from the United States to Canada pursuant to section 202(e) of the Federal Power Act.

DATES: Comments, protests or requests to intervene must be submitted on or before October 31, 2005.

ADDRESSES: Comments, protests or requests to intervene should be addressed as follows: Office of Electricity Delivery and Energy Reliability, Mail Code: OE-20, U.S. Department of Energy, 1000 Independence Avenue, SW, Washington, DC 20585-0350 (FAX 202-586-5860).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On November 17, 2003, the Department of Energy (DOE) issued Order No. EA-281 authorizing Manitoba Hydro to export electric energy from the United States to Canada. That two-year authorization will expire on November 17, 2005. On September 2, 2005, Manitoba Hydro applied to DOE to renew its authority to export electric energy from the United States to Canada for a five (5) year period.

In OE Docket No. EA-281-A, Manitoba Hydro proposes to purchase electric energy in Canada and wheel that energy through transmission facilities in the United States and return it to Canada using certain transmission facilities located at the U.S. border with Canada. In addition, Manitoba Hydro proposes to purchase electric energy from generators, power marketers, or federal power marketing agencies in the U.S. and export that energy to Canada. Manitoba Hydro will arrange for the delivery of exports to Canada over the international transmission facilities owned by Basin Electric Power Cooperative, Booneville Power Administration, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company and Vermont Electric Transmission Co.

The construction, operation, maintenance, and connection of each of the international transmission facilities to be utilized by Manitoba Hydro has previously been authorized by a Presidential permit issued pursuant to Executive Order 10485, as amended.

Procedural Matters: Any person desiring to become a party to these proceedings or to be heard by filing comments or protests to this application should file a petition to intervene, comment or protest at the address provided above in accordance with §§ 385.211 or 385.214 of the FERC's Rules of Practice and Procedures (18 CFR 385.211, 385.214). Fifteen copies of each petition and protest should be filed with the DOE on or before the dates listed above.

Comments on the Manitoba Hydro application to export electric energy to Canada should be clearly marked with Docket EA-281-A. Additional copies are to be filed directly with K. Jennifer Moroz, Barrister & Solicitor, Legal Department, Manitoba Hydro, 820 Taylor Avenue, Winnipeg, Manitoba Canada R3M 3T1AND David Martin /Connelly, Bruder, Gentile & Marcoux, L.L.P., 1701 Pennsylvania Avenue, NW., Suite 900, Washington, DC 20006-5805.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's Home Page at http://www.fe.doe.gov. Upon reaching the Home page, select “Electricity Regulation,” and then “Pending Proceedings” from the options menus.

Issued in Washington, DC, on September 26, 2005.
Anthony J. Como,
Director, Permitting and Siting, , Office of Electricity Delivery and Energy Reliability.

[FR Doc. 05-19591 Filed 9-29-05; 8:45 am]

BILLING CODE 6450-01-P